NATIONAL SCIENCE FOUNDATION

Business and Operations Advisory Committee; Notice of Meeting

In accordance with Federal Advisory Committee Act (Pub. L. 92-463, as amended), the National Science Foundation announces the following meeting:

Name: Business and Operations Advisory Committee (9556).

Date/Time: July 10, 2003; 2 p.m. to 3 p.m. (EST).

Place: National Science Foundation, 4201 Wilson Boulevard, Room 565-II, Arlington, VA.

Type of Meeting: Teleconference (OPEN) Please contact Mary Ann Birchett (below) for a dial-in phone number.

Contact Person: Mary Ann Birchett, National Science Foundation, 4201 Wilson Boulevard, Arlington, VA 22230. (703) 292-8100.

Purpose of Meeting: To provide advice concerning issues related to the oversight, integrity, development and enhancement of NSF's business operations.

Agenda: July 10, 2003. Discussion of NSF's Strategic Plan, which is currently available, online for public review at: http://www.nsf.gov/od/stratplan 03-08/draft-stratplan.htm.

Dated: June 18, 2003.
Susanne Bolton,
Committee Management Officer.

[FR Doc. 03-15805 Filed 6-20-03; 8:45 am]

BILLING CODE 7555-01-M